DEPARTMENT OF AGRICULTURE

Forest Service

Pike/San Isabel National Forests and Cimarron/Comanche National Grasslands; Chaffee County Colorado; Browns Canyon National Monument Plan Assessment

AGENCY: Forest Service, USDA.

ACTION: Notice of intent to start Browns Canyon National Monument Plan Assessment Phase.

SUMMARY: Notice of intent to start the assessment phase for The Browns Canyon National Monument Management Plan—Pike/San Isabel National Forests and Cimarron/Comanche National Grasslands (PSICC) Plan amendment and Bureau of Land Management (BLM) Eastern Colorado Resource Management Plan update. An assessment report of ecological, social, and economic conditions and trends for Browns Canyon National Monument will be prepared for the Pike and San Isabel National Forests and Cimarron and Comanche National Grasslands (PSICC) Plan Amendment and Bureau of Land Management Resource Management Plan update.

DATES: A draft of the assessment report for the Browns Canyon National Monument, Pike/San Isabel National Forests and Cimarron/Comanche National Grasslands and BLM Royal Gorge Field Office is expected to be completed by fall 2017 and will be posted on the Pike and San Isabel National Forests Projects Web site at: https://www.fs.usda.gov/project/?project=51098 and BLM Browns Canyon National Monument RMP link at: https://eplanning.blm.gov/epl-frontoffice/eplanning/planAndProjectSite.do?methodName=renderDefaultPlanOrProjectSite&projectId=69924&dctmId=0b0003e880dda953. From April to June 2017, the public is invited to engage in a collaborative process to identify relevant baseline information and local knowledge to be considered for the assessment and development of the Browns Canyon National Monument management plan. The Forest, in coordination and cooperation with BLM, will then initiate procedures pursuant to the National Environmental Policy Act (NEPA) and prepare a joint monument management plan-Environmental Impact Statement (EIS). The Forest and BLM will again be cooperatively inviting the public to help identify the appropriate plan components that will become the NEPA proposed action and/or alternatives for the land management plan revision. The NEPA procedures result in a record of decision and the plan revision process results in a draft revised plan. The Federal Register availability announcement for these documents starts the pre-decisional administrative review process (36 CFR 219 Subpart B). The administrative review process provides an individual or entity an opportunity for an independent Forest Service review and resolution of issues before the final approval of a plan, plan amendment or plan revision.

ADDRESSES: Written comments or questions concerning this notice should be addressed to U.S. Forest Service—Salida Ranger District Attn.: Browns Canyon National Monument—Planning Assessment, 5575 Cleora Road, Salida, CO 81201, or by email to: blm_co_brownscanyon@blm.gov (subject heading Browns Canyon National Monument—Planning Assessment).

FOR FURTHER INFORMATION CONTACT: John Dow, Forest Planner at 719-553-1476 or Joseph Vieira, BLM Planner-Project Manager at (719) 246-9966. Individuals who use telecommunication devices for the deaf (TDD) may call the Federal Information Relay Service (FIRS) at 1-800-877-8339 between 5 a.m. and 5 p.m., Pacific Time, Monday through Friday. More information on the planning process can also be found on the Pike and San Isabel National Forests Web site at https://www.fs.usda.gov/project/?project=51098.

SUPPLEMENTARY INFORMATION: The National Forest Management Act (NFMA) of 1976 requires that every National Forest System (NFS) unit develop a land management plan. On April 9, 2012, the Forest Service finalized its land management planning rule (2012 Planning Rule), which provides broad programmatic direction to National Forests and National Grasslands for developing and implementing their land management plans.

Forest plans describe the strategic direction for management of forest resources for fifteen to twenty years, and are adaptive and amendable as conditions change over time. Under the 2012 Planning Rule, the assessment of ecological, social, and economic trends and conditions is the first stage of the planning process. The second stage is a development and decision process guided, in part, by the NEPA and includes the preparation of a draft environmental impact statement and revised Forest Plan for public review and comment, and the preparation of the final environmental impact statement and revised Forest Plan. The third stage of the process is monitoring and feedback, which is ongoing over the life of the revised forest plans. With this notice, the agency invites other governments, non-governmental parties, and the public to contribute to the development of the assessment report.

The assessment will rapidly evaluate the sustainability of existing ecological, economic, and social conditions and trends within the context of the broader landscape. It will help inform the planning process through the use of Best Available Scientific Information, while also taking into account other forms of knowledge, such as local information, national perspectives, and native knowledge. Lastly, the assessment will help identify the need to change the existing 1984 plan.

The Pike/San Isabel National Forests and Cimarron/Comanche National Grasslands and Bureau of Land Management Royal Gorge Field Office, with lands administered in Chaffee County, Colorado are initiating the Browns Canyon National Monument (NM) planning assessment and management plan process pursuant to Proclamation 9232, establishing the monument specifically states: In the development and implementation of the management plan, the Secretaries (USDA and Department of Interior) shall maximize opportunities, pursuant to applicable legal authorities, for shared resources, operational efficiency, and cooperation. A joint agency assessment process will be performed in cooperation with the BLM and National Conservation Lands. The assessment process and results are to be used to inform a Browns Canyon NM Management Plan describing the strategic direction for management of monument resources, objects, and values for the next 15 to 20 years on the Pike/San Isabel National Forests and Cimarron/Comanche National Grasslands and BLM Royal Gorge Field Office.

The Browns Canyon NM Management Plan will amend the PSICC's Land and Resource Management Plan and be incorporated into the BLM's Royal Gorge Field Office Eastern Colorado Resource Management Plan during revision. The first phase of the process, the assessment phase, has begun and interested parties are invited to contribute to the development of the assessment (36 CFR 219.12-17).

Additional information on public participation opportunities will be available on the project Web site: https://www.fs.usda.gov/project/?project=51098 and BLM Browns Canyon National Monument RMP link at https://eplanning.blm.gov/epl-front-office/eplanning/planAndProjectSite.do?methodName=renderDefaultPlanOrProjectSite&projectId=69924&dctmId=0b0003e880dda953. The trends and conditions identified in the assessment will help in identifying the need for change, in the development of plan components.

Collaboration as part of the assessment phase supports the development of relationships of key stakeholders throughout the plan revision process, and is an essential step to understanding current conditions, available data, and feedback needed to support a strategic, efficient planning process. As public meetings, other opportunities for public engagement, and public review and comment opportunities are identified to assist with the development of the forest plan revision, public announcements will be made, and notifications will be posted on the Browns Canyon National Monument Project Web page at https://www.fs.usda.gov/project/?project=51098 and information will be sent out to the Forest's mailing list. If anyone is interested in being on the Forest's mailing list to receive these notifications, please contact John Dow, Forest Planner at 719-553-1476 or Joseph Vieira, BLM Planner-Project Manager at (719) 246-9966 at the mailing address identified above, or by sending an email to: blm_co_brownscanyon@blm.gov (subject heading titled Browns Canyon National Monument—Planning Assessment).

Responsible Official: The responsible official for the Browns Canyon National Monument management plan for the Pike/San Isabel National Forests and Cimarron/Comanche National Grasslands is Erin Connelly, Forest Supervisor, Pike/San Isabel National Forests and Cimarron/Comanche National Grasslands, 2840 Kachina Drive, Pueblo, CO 81008.

Dated: April 7, 2017.
Glenn Casamassa,
Associate Deputy Chief, National Forest System.

[FR Doc. 2017-07797 Filed 4-17-17; 8:45 am]

BILLING CODE 3411-15-P